DEPARTMENT OF HEALTH AND HUMAN SERVICES

Centers for Disease Control and Prevention

[30Day-24-23IE]

Agency Forms Undergoing Paperwork Reduction Act Review

In accordance with the Paperwork Reduction Act of 1995, the Centers for Disease Control and Prevention (CDC) has submitted the information collection request titled “Social and Economic Barriers to Receiving Optimal Services Along the Cancer Care Continuum” to the Office of Management and Budget (OMB) for review and approval. CDC previously published a “Proposed Data Collection Submitted for Public Comment and Recommendations” notice on September 26, 2023 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Social and Economic Barriers to Receiving Optimal Services Along the Cancer Care Continuum—New—National Center for Chronic Disease Prevention and Health Promotion (NCCDPHP), Centers for Disease Control and Prevention (CDC).

Background and Brief Description

The purpose of this project is to: (1) examine and better understand social and economic barriers faced by colorectal, breast, and cervical cancer survivors and their caregivers at each stage of the Cancer Care Continuum (CCC); and (2) quantify the impact of individual and compounded barriers on health outcomes along the CCC for survivors. CDC will use a mixed methods data collection and analysis approach. First, CDC will pull our sample from cancer registry data in California, North Carolina, and Texas based on inclusion criteria (received first cancer diagnosis of either breast, cervical or colorectal cancer in 2021; 21-75 years of age at time of diagnosis; are non-Hispanic Black/African American, non-Hispanic White, or Hispanic; alive at the time of data extraction/sample selection). Then, CDC will administer a Wave 1 (baseline) and Wave 2 (one-year follow-up) survey to cancer survivors, as well as a survey to their caregivers. Additionally, CDC will conduct interviews with selected survivors and caregivers as well as focus groups with representatives from patient/survivor advocacy organizations.

CDC will incorporate cancer registry data into the quantitative data analysis, and triangulate findings from the quantitative and qualitative data collection efforts. Results will be used to inform efforts aimed at increasing access to cancer care services, reducing the burden of cancers and closing the disparities gap. CDC requests OMB approval for an estimated 1,681 annual burden hours. There are no costs to respondents other than their time to participate.

Estimated Annualized Burden Hours
Type of respondents | Form name | Number of respondents | Number of responses per respondent | Average burden per response (in hours)
Wave 1 Survivor Survey Respondents | W1 Survey Instrument | 3,000 | 1 | 20/60
Wave 2 Survivor Survey Respondents | W2 Survey Instrument | 1,200 | 1 | 20/60
Survivor Interviewees | Survivor Interview Guide | 20 | 1 | 1
Caregiver Survey Respondents | Caregiver Survey Instrument | 900 | 1 | 15/60
Caregiver Interviewees | Caregiver Interview Guide | 20 | 1 | 1
Patient Advocacy Group—Focus Group Participants | Advocacy Representatives Focus Group Guide | 16 | 1 | 1

Jeffrey M. Zirger,
Lead, Information Collection Review Office, Office of Public Health Ethics and Regulations, Office of Science, Centers for Disease Control and Prevention.

[FR Doc. 2024-19611 Filed 8-30-24; 8:45 am]

BILLING CODE 4163-18-P